DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 U.S.C. 327.

SUMMARY: The FHWA, on behalf of Caltrans, is issuing this notice to announce actions taken by Caltrans and other Federal agencies that are final within the meaning of 23 U.S.C. 139(l)(1). The actions relate to a proposed highway interchange project, improvements along State Route 163 (SR-163) at the Friars Road Interchange in the County of San Diego, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before April 19, 2011. If the Federal law that authorizes judicial review of a claim provides a time period of less than 180 days for filing such claim, then the shorter time period still applies.

FOR FURTHER INFORMATION CONTACT: Kevin Hovey, Senior Environmental Planner, Division of Environmental Analysis, California Department of Transportation, 4050 Taylor Street, San Diego, CA 92110, Regular Office Hours 7 a.m. to 3 p.m., Telephone number 619-688-0240, e-mail Kevin.Hovey@dot.ca.gov.

SUPPLEMENTARY INFORMATION: Effective July 1, 2007, the FHWA assigned, and the California Department of Transportation (Caltrans) assumed, environmental responsibilities for this project pursuant to 23 U.S.C. 327. Notice is hereby given that Caltrans has taken final agency actions subject to 23 U.S.C. 139(l)(1) by issuing licenses, permits, and approvals for the following project in the State of California: The project is located in the Mission Valley Community of the City of San Diego along SR-163. The proposed project will: Construct new at grade lanes on the west-side of southbound SR-163 approaching Friars Road with connection to westbound Interstate 8/Hotel Circle North; modify the existing SR-163/Friars Road interchange partial cloverleaf, including the addition of a flyover bridge from Ulric Street to southbound SR-163; widen Friars Road bridge from 6 lanes to 10 lanes with added sidewalks on both sides of the bridge; widen the eastern portion of Friars Road past the northbound SR-163 on-ramp; widen the western portion of Frazee Road immediately north and south of Friars Road; remove the median on Avenida de las Tiendas (south of Friars Road) and restripe the roadway to provide three southbound and three northbound lanes; install or upgrade traffic signals at Friars Road/Ulric Street, Ulric Street/southbound SR-163 on-ramp; Friars Road/northbound SR-163 on-ramp; and Frazee Road/Murray Canyon Road; and construct 15 retaining walls and 9 noise attenuation barriers along SR-163 and Friars Road. The project will be constructed in three phases. The actions by the Federal agencies, and the laws under which such actions were taken, are described in the project files. The Categorical Exclusion, approved on 09/30/2010, and other project records are available by contacting Caltrans at the addresses provided above.

This notice applies to all Federal agency decisions as of the issuance date of this notice and all laws under which such actions were taken, including but not limited to:

1. Council on Environmental Quality regulations;

2. National Environmental Policy Act (NEPA);

3. Safe, Accountable, Flexible, Efficient Transportation Equity Act: A Legacy for Users (SAFETEA-LU);

4. Department of Transportation Act of 1966;

5. Federal Aid Highway Act of 1970;

6. Clean Air Act Amendments of 1990;

7. Clean Water Act of 1977 and 1987;

8. Endangered Species Act of 1973;

9. Migratory Bird Treaty Act;

10. Title VI of the Civil Rights Act of 1964;

11. Uniform Relocation Assistance and Real Property Acquisition Act of 1970;

12. National Historic Preservation Act of 1966;

13. Executive Order 11990, Protection of Wetlands;

14. Executive Order 13112, Invasive Species; and

15. Executive Order 11988, Floodplain Management.

(Catalog of Federal Domestic Assistance Program Number 20.205, Highway Planning and Construction. The regulations implementing Executive Order 12372 regarding intergovernmental consultation on Federal programs and activities apply to this program.)

Authority: 23 U.S.C. 139(l)(1).

Issued on: October 13th, 2010.
Karen Bobo,
Director, Local Programs, Federal Highway Administration, Sacramento, California.

[FR Doc. 2010-26662 Filed 10-20-10; 8:45 am]

BILLING CODE 4910-RY-P